DEPARTMENT OF COMMERCE

Foreign-Trade Zones Board

[B-76-2014]

Foreign-Trade Zone (FTZ) 45—Portland, OR, Proposed Revision to Production Authority, Epson Portland, Inc., Subzone 45F, (Inkjet Cartridges and Bulk Ink), Hillsboro, OR

Epson Portland, Inc. (EPI) submitted a notification to the FTZ Board that proposes a revision to existing production authority for EPI's facility in Hillsboro, Oregon, within Subzone 45F. The notification conforming to the requirements of the regulations of the FTZ Board (15 CFR 400.22) was received on October 20, 2014.

EPI already has authority to produce inkjet ink cartridges and bulk ink (with restrictions) within Subzone 45F (Board Order 1406, 70 FR 55106, 9/20/2005; A(32(b)-3-2011, 77 FR 17409, 3/26/2012; and Board Order 1945, 79 FR 47615, 8/14/2014). EPI has authority to produce inkjet cartridges from certain non-privileged foreign status (NPF) ink components (Board Order 1945) while it has authority to produce bulk ink from certain privileged foreign (PF) status components (A(32b)-3-2011). EPI's notification indicates that the bulk ink that it produces (for export) involves some of the same foreign materials and components as its inkjet cartridge production. In the current request, EPI seeks to admit these components to the subzone in NPF status for use in the bulk ink production and to subsequently place the finished bulk ink in zone-restricted status prior to export. By electing NPF status for these materials and components EPI would be able to simplify its inventory-control procedures—electing NPF status for materials common to its production of inkjet cartridges and bulk ink—while continuing to receive FTZ duty-related benefits for its bulk ink production for export.

The request lists the following materials and components sourced from abroad for which EPI is requesting authority to elect NPF status for use in its bulk ink export production: potassium hydroxide; acrylic alcohols (surfactants); 2-ethyl, 2-propane-1,3diol; glycerin; 2,2 oxydiethanol (diethylene glycol digol); ether-alcohols (penetrants); adipic acid; triethanolamine & its salts (other emulsifiers); amino acids (stabilizers); N-methyl-2-pyrrolidone; 2-pyrriolidone; benzotriazole; direct dyes & preparations based on these direct dyes (yellow, black, cyan, brown, orange, violet, red, green, magenta, other); preparations based on carbon black; paints and varnish based on acrylic or vinyl polymers (solvents); surface active agents; organic solvents/thinners (containing 5%-25% by weight of one or more aromatic or modified aromatic substances); chemical mixtures (biocides, surfactants); and, plastics, polymers of styrene (duty rates range from free to 6.5%). Public comment is invited from interested parties. Submissions shall be addressed to the FTZ Board's Executive Secretary at the address below. The closing period for their receipt is December 8, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Diane Finver at Diane.Finver@trade.gov or (202) 482-1367.

Dated: October 21, 2014.
Andrew McGilvray,
Executive Secretary.

[FR Doc. 2014-25639 Filed 10-27-14; 8:45 am]

BILLING CODE 3510-DS-P